DEPARTMENT OF COMMERCE

International Trade Administration

Notice of Amendment for Clean Air Trade Mission to India

AGENCY: International Trade Administration, Department of Commerce.

ACTION: Notice.

SUMMARY: The United States Department of Commerce, International Trade Administration, is announcing amended dates, pricing, and format for the Clean Air Trade Mission to India previously announced and published in the Federal Register. The mission, originally scheduled to take place in person on May 2-5, 2022, will now be hosted virtually on May 4-6, 2022 with a revised agenda and fee structure as outlined below.

SUPPLEMENTARY INFORMATION: Amendment to Revise Trade Mission Dates, Fees, and Format.

Background

The United States Department of Commerce, International Trade Administration, is amending the Notice published at 86 FR 21697 (April 23, 2021), regarding the dates, format, and pricing of ITA's planned Clean Air Trade Mission to India, which will now be hosted as a virtual trade mission, from May 4-6, 2022 (revised from May 2-5, 2022). The Department has been closely monitoring COVID-19 developments and believes revising the format of the mission is the best decision for the health, safety, and welfare of the participants. The deadline for applications remains March 15, 2022. Applications may be accepted after that date if space remains and scheduling constraints permit. The schedule is updated as follows:

Proposed Timetable

Wednesday, May 4, 2022 | • Virtual Matchmaking. • Welcome from U.S. Commercial Service India. • U.S. Government Panel. • Virtual Matchmaking.
Thursday, May 5, 2022 | • Virtual Matchmaking. • India Pollution Control Board Panel. • Virtual Matchmaking.
Friday, May 6, 2022 | • Virtual Matchmaking. • Industry Panel. • Virtual Matchmaking.
* Note: The final schedule, matchmaking meetings, and panel topics/speakers will depend on the availability of host government and business officials and specific goals of mission participants.

Fees and expenses have been revised in accordance with the transition to a virtual format. The fee for participating small and medium sized companies is $1,000 and $2,800 for large companies for a maximum of 5 meetings per company; additional meetings may be available for an incremental fee after the trade mission ends.

The U.S. Department of Commerce will review applications and make selection decisions on a comparative basis in accordance with the Notice published at 86 FR 21697 (April 23, 2021). The applicants selected will be notified as soon as possible.

Contacts

Jing Liu, Commercial Officer, U.S. Commercial Service, New Delhi, India, Tel: +91-11-2347 2000, Email: Jing.Liu@trade.gov

Arup Mitra, Senior Commercial Specialist, U.S. Commercial Service, Kolkata, India, Tel: +91-11-2347 2000, Email: Arup.Mitra@trade.gov

Megan Hyndman, India/Pakistan Desk Officer, Global Markets, Tel: +1-202-482-4437, Email: Megan.Hyndman@trade.gov

Haisum Shah, International Trade Specialist, U.S. Commercial Service—Oregon and SW Washington, Tel: +1-503-347-1708, Email: Haisum.Shah@trade.gov

David Dennis, International Trade Specialist, Office of Energy and Environmental Industries, Tel: 802.458.7678, Email: David.Dennis@trade.gov

Gemal Brangman,
Director, ITA Events Management Task Force.

[FR Doc. 2022-03527 Filed 2-17-22; 8:45 am]

BILLING CODE 3510-DR-P